DEPARTMENT OF ENERGY

Agency Information Collection Extension

AGENCY: U.S. Department of Energy.

ACTION: Notice and request for comments.

SUMMARY: The Department of Energy (DOE), pursuant to the Paperwork Reduction Act of 1995, intends to extend for three years, an information collection package with the Office of Management and Budget (OMB) concerning the Renewable Energy Production Incentive. The package covers the collection of information concerning annual applications from the owners of qualified renewable energy generation facilities for the consideration of renewable energy production incentive payments. This information is used by the Department to determine if the applicant's facility qualifies for these payments and to determine the amount of net electricity produced that qualifies for these payments. This information is critical to ensure that the Government has sufficient information to ensure the proper use of public funds for these incentive payments. Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 28, 2004. If you anticipate difficulty in submitting comments within that period, contact the persons listed in the ADDRESSES section as soon as possible.

ADDRESSES: Written comments may be sent to: William J. Raup, Office of Weatherization and Intergovernmental Programs (EE-2K), Department of Energy, Washington, DC 20585, or by fax at (202) 586-1233 or (202) 586-3485 or by e-mail at william.raup@ee.doe.gov.

Sharon A. Evelin, Acting Director, Records Management Division, IM-11/Germantown Bldg., Office of the Chief Information Officer, U.S. Department of Energy, 1000 Independence Ave SW., Washington, DC 20585-1290. or by fax at 301-903-9061 or by e-mail at sharon.evelin@hq.doe.gov.

FOR FURTHER INFORMATION CONTACT: Requests for additional information or copies of the information collection instrument and instructions should be directed to the two individuals specified in the ADDRESSES section.

SUPPLEMENTARY INFORMATION: This package contains: (1) OMB No. 1910-0068; (2) Package Title: Renewable Energy Production Incentive; (3) Type of Review: renewal; (4) Purpose: To provide required information to receive consideration for payment for qualified renewable energy electricity produced in the prior fiscal year; (5) Respondents: 75; (6) Estimated Number of Burden Hours: 450.

Statutory Authority: Energy Policy Act of 1992, P.L. 102-486, 42, U.S.C. 13317

Issued in Washington, DC on April 23, 2004.
Sharon A. Evelin,
Acting Director, Records Management Division, Office of the Chief Information Officer.

[FR Doc. 04-9710 Filed 4-28-04; 8:45 am]

BILLING CODE 6450-01-P